NATIONAL AERONAUTICS AND SPACE ADMINISTRATION

[Notice: (13-008)]

NASA Advisory Council; Aeronautics Committee; Unmanned Aircraft Systems Subcommittee Meeting

AGENCY: National Aeronautics and Space Administration.

ACTION: Notice of meeting.

SUMMARY: In accordance with the Federal Advisory Committee Act, Public Law 92-463, as amended, the National Aeronautics and Space Administration announces a meeting of the Unmanned Aircraft Systems (UAS) Subcommittee of the Aeronautics Committee of the NASA Advisory Council. The meeting will be held for the purpose of soliciting, from the aeronautics community and other persons, research and technical information relevant to program planning.

DATES: Tuesday, February 26, 2013, 8:30 a.m. to 4:30 p.m., Local Time.

ADDRESSES: National Aeronautics and Space Administration Headquarters, Room 6E40B, 300 E Street SW., Washington, DC 20546.

FOR FURTHER INFORMATION CONTACT: Ms. Brenda L. Mulac, Executive Secretary for the UAS Subcommittee of the Aeronautics Committee, National Aeronautics and Space Administration Headquarters, Washington, DC 20546, (202) 358-1578, or brenda.l.mulac@nasa.gov.

SUPPLEMENTARY INFORMATION: The meeting will be open to the public up to the capacity of the room. Any person interested in participating in the meeting by WebEx and telephone should contact Ms. Brenda L. Mulac at (202) 358-1578 for the web link, toll-free number and passcode. The agenda for the meeting includes the following topics:

• Overview of UAS Aviation Rulemaking Committee Activities and NASA's UAS Project Involvement

• Overview of the NASA UAS Systems Analysis

• Review of UAS in the National Airspace System Project Integration of Subprojects

• Development and review of 2013 Work Plan

It is imperative that these meetings be held on this date to accommodate the scheduling priorities of the key participants. Attendees will be requested to comply with NASA security requirements, including the presentation of a valid picture ID, before receiving an access badge. U.S. citizens will need to show a valid, officially-issued picture identification such as driver's license to enter the NASA Headquarters building (West Lobby—Visitor Control Center) and must state that they are attending the NASA Advisory Council Aeronautics Committee UAS Subcommittee meeting in conference room 6B42 before receiving an access badge. All non-U.S. citizens must fax a copy of their passport, and print or type their name, current address, citizenship, company affiliation (if applicable) to include address, telephone number, and their title, place of birth, date of birth, U.S. visa information to include type, number, and expiration date, U.S. Social Security Number (if applicable), Permanent Resident green card number and expiration date (if applicable), and place and date of entry into the U.S., to Ms Brenda L. Mulac, NASA Advisory Council Aeronautics Committee UAS Subcommittee Executive Secretary, fax 202-358-3602, by no less than 8 working days prior to the meeting. Non-U.S. citizens will need to show their Passport or Permanent Resident green card to enter the NASA Headquarters building. For questions, please call Ms Brenda L. Mulac at (202) 358-1578.

Patricia D. Rausch,
Advisory Committee Management Officer, National Aeronautics and Space Administration.

[FR Doc. 2013-02331 Filed 2-1-13; 8:45 am]

BILLING CODE 7510-13-P